DEPARTMENT OF AGRICULTURE

Forest Service

36 CFR Part 216

Public Notice and Comment for Forest Service Directives

AGENCY: Forest Service, USDA.

ACTION: Technical corrections to final rule.

SUMMARY: The United States Department of Agriculture (USDA) is affirming the final rule that appeared in the Federal Register on March 30, 2018, with technical corrections. One of the technical corrections responds to comments received during the comment period for the final rule, and the other removes a phrase that does not apply.

DATES: Technical corrections to the final rule at 36 CFR part 216 are effective January 16, 2020.

FOR FURTHER INFORMATION CONTACT: Michael Migliori, Program Analyst, Directives and Regulations, Office of Regulatory and Management Services, michael.migliori@usda.gov, (202) 205-2496. Individuals who use telecommunication devices for the deaf may call the Federal Information Relay Service at (800) 877-8339 between 8:00 a.m. and 8:00 p.m., Eastern Time, Monday through Friday.

SUPPLEMENTARY INFORMATION:

Response to Comments on Final 36 CFR part 216

The Forest Service received 74 comments on final 36 CFR part 216 (83 FR 13646). A record of all comments received on the final rule can be accessed at the Forest Service Regulations and Policies web page via https://www.fs.fed.us/about-agency/regulations-policies. The Department's summary response to those comments that are within the scope of the final rule and substantive is posted at the Forest Service Regulations and Policies web page at https://www.fs.fed.us/about-agency/regulations-policies.

Definition of a Directive

One commenter noted that the definition of a directive in 36 CFR 216.2, which is limited to directives issued “by the Office of the Chief,” is too narrow, since field officials issue directive supplements that may require public notice and opportunity to comment.

The Department agrees. The Department has removed the phrase “by the Office of the Chief” from § 216.2 consistent with existing regulations at 36 CFR 200.4(c), which provide for directive supplements issued by certain field officials, as well as national directives issued by the Chief. This technical correction clarifies that final 36 CFR part 216 applies to directive supplements, as well as to national directives.

Inapplicable Phrase

As currently written, § 216.3(b) of the final rule prescribes certain procedures for public comments, as well as public notices, required by the final rule. The reference to public comments in § 216.3(b) has been removed, since public comments are not required under the final rule. Rather, the final rule requires public notice and opportunity for comment on Forest Service directives as provided in the final rule.

List of Subjects in 36 CFR Part 216

Administrative practice and procedure, National forests.

Therefore, for the reasons set out in the preamble, the Department is affirming the final rule at part 216 of title 36 of the Code of Federal Regulations, with the following technical corrections:

PART 216—PUBLIC NOTICE AND COMMENT FOR STANDARDS, CRITERIA, AND GUIDANCE APPLICABLE TO FOREST SERVICE PROGRAMS

1. The authority citation for part 216 continues to read as follows:

Authority: 16 U.S.C. 1612(a).

2. Section 216.2 is revised to read as follows:

§ 216.2 Definition.

Directive means the contents of the Forest Service Manual and Forest Service Handbooks issued as described at 36 CFR 200.4(c).

3. Section 216.3(b) is revised to read as follows:

§ 216.3 Notice and opportunity for public comment.

* * * * *

(b) Notices required by paragraph (a) of this section shall:

(1) Be published on a schedule for proposed directives and interim directives maintained by the Forest Service in a centralized repository on the Forest Service website.

(2) Provide a physical mailing address and an internet address or similar online resource for submitting comments.

* * * * *

Dated: December 3, 2019.
J. Lenise Lago,
Associate Chief.

[FR Doc. 2020-00666 Filed 1-15-20; 8:45 am]

BILLING CODE 3411-15-P